DEPARTMENT OF ENERGY

Federal Energy Regulatory Commission

[Docket No. CP03-40-000]

Sid Richardson Energy Services, Ltd.; Notice of Application

January 30, 2003.

On January 21, 2003, Sid Richardson Energy Services, Ltd. (Richardson), 201 Main Street, Suite 3000, Fort Worth, Texas 76102, filed an application in Docket No. CP03-40-000, pursuant to Rule 207(a)(2) of the Rules of Practice and Procedure of the Federal Energy Regulatory Commission (Commission) 18 CFR 385.207(a)(2), for a declaratory order declaring that Richardson's ownership and operation of certain facilities to be purchased from Northern Natural Gas Company (Northern) will not subject Richardson or its rates, services, facilities, or operations, to the Commission's jurisdiction under the Natural Gas Act. This filing is available for review at the Commission in the Public Reference Room or may be viewed on the Commission's Web site at http://www.ferc.gov using the “FERRIS” link. Enter the docket number excluding the last three digits in the docket number field to access the document. For assistance, contact FERC at FERCOnline Support@ferc.gov or call toll-free, (866) 208-3676, or for TTY, (202) 502-8659.

Richardson states that it is purchasing from Northern 26.82 miles of 16-inch pipeline between the outlet of Richardson's Jal Processing Plant (at Northern's block value #836BBB02) and Northern's Kermit compressor station, which will allow Richardson to use its processing/treating plants and gathering systems more efficiently.

Richardson further states that it will operate the subject pipeline as part of its non-jurisdictional gathering and processing operations. Accordingly, Richardson states that under the Commission's primary function test, the subject facilities should be declared exempt from the Commission's jurisdiction pursuant to Section 1(b) of the Natural Gas Act. Richardson states that Northern will be abandoning the subject facilities pursuant to its Subpart F blanket certificate authority and the automatic abandonment provisions of 18 CFR 157.216.

Any questions regarding this application may be directed to Richard Moncrief, Sid Richardson Energy Services, Ltd., 201 Main Street, Suite 3000, Fort Worth, Texas 76102 at (817) 339-7480 or Joseph S. Koury, Wright & Talisman, P.C., 1200 G Street, NW., Suite 600, Washington, DC 20005 at (202) 393-1200.

There are two ways to become involved in the Commission's review of this project. First, any person wishing to obtain legal status by becoming a party to the proceedings for this project should, on or before the comment date stated below, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made in the proceeding with the Commission and must mail a copy to the applicant and to every other party. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

Protests and interventions may be filed electronically via the Internet in lieu of paper; see 18 CFR 385.2001(a)(1)(iii) and the instructions on the Commission's Web site under the “e-Filing” link. The Commission strongly encourages electronic filings.

If the Commission decides to set the application for a formal hearing before an Administrative Law Judge, the Commission will issue another notice describing that process. At the end of the Commission's review process, a final Commission order approving or denying a certificate will be issued.

Comment Date: February 19, 2003.

Magalie R. Salas,
Secretary.

[FR Doc. 03-2873 Filed 2-5-03; 8:45 am]

BILLING CODE 6717-01-P